DEPARTMENT OF COMMERCE

National Oceanic and Atmospheric Administration

[I.D. 103001A]

Endangered Species; Permit 1046 and 1067

AGENCY: National Marine Fisheries Service, National Oceanic and Atmospheric Administration, Commerce

ACTION: Issuance of modification 1 to permit 1046 and modification 3 to permit 1067.

SUMMARY: Notice is given that the National Marine Fisheries Service (NMFS) has issued modification 1 to permit 1046 to the National Park Service (NPS) and modification 3 to permit 1067 to the California Department of Fish and Game (CDFG). Both permit modifications authorize takes of Endangered Species Act-listed anadromous fish species for the purpose of rescue, subject to certain conditions set forth therein.

ADDRESSES: The applications and related documents are available for review in the following office, by appointment:

For permits 1046 and 1067: Protected Resources Division, NMFS, 777 Sonoma Avenue, Room 325, Santa Rosa, California 95404-6528

FOR FURTHER INFORMATION CONTACT: For permits 1046 and 1067: Daniel Logan, Protected Resources Division, NMFS, Santa Rosa, California, (707) 575-6053.

SUPPLEMENTARY INFORMATION:

Species Covered in this Notice

The following species and evolutionarily significant units (ESU's) are covered in this notice: Southern Oregon/Northern California Coasts (SONCC) coho salmon (Oncorhynchus kisutch) and Central California Coast (CCC) coho salmon.

Issuance of these permit modifications, as required by the ESA, was based on a finding that such modifications were: (1) applied for in good faith; (2) would not operate to the disadvantage of the listed species which are the subject of the permit; and (3) are consistent with the purposes and policies set forth in section 2 of the ESA. These modifications were issued in accordance with, and are subject to, 50 CFR part 222, the NMFS regulations governing listed species permits.

Modifications to Permits Issued

The NMFS has authorized the NPS to rescue juvenile coho salmon stranded in drying pools in streams in portions of the CCC coho salmon ESU. Also, NMFS has authorized the CDFG to rescue juvenile coho salmon stranded in drying pools in streams throughout the CCC and SONCC coho salmon ESU’s. Annual rainfall totals for the 2001 water year for coastal northern California is 58% of normal. The reduced rainfall has led to reduced stream flows with pools having become disconnected from the streams.

Biologists from CDFG, NPS, and other entities have observed coho salmon in residual pools, and many pools have dried completely.

NMFS believes that the modifications to permits 1046 and 1067 authorizing rescues of stranded SONCC or CCC coho salmon is an appropriate emergency situation, consistent with 50 CFR 222.303(g). Therefore a public comment period was not commenced on this action. The issuance of the modifications to permits 1046 and 1067 allows NMFS to utilize its authority to further the purpose of the ESA; that is to lead to the recovery of listed species. Without intervention, thousands of juvenile CCC coho salmon will die. Facilitating rescues of stranded SONCC coho salmon and CCC coho salmon will result in conservation of the threatened salmonid ESUs by preserving life or furthering our understanding of the species. By the very nature of the circumstances that trigger these actions, NMFS concludes that facilitating rescue activities is necessary and advisable.

For Modification 1 to permit 1046, the following change was incorporated into the take limits for the permit: The NPS is authorized to capture, transport, and release of 5000 juvenile CCC coho salmon associated with fish rescue operations within drainages on, and proximate to, National Park Service lands in Marin County, CA. The NPS may rescue juvenile CCC coho salmon, found in habitat areas were conditions are likely to result in eminent mortality; the fish must be released into habitat areas within the same watershed where the chance of long-term survival is increased.

For Modification 3 to permit 1067, the following changes were incorporated into the take limits for the permit: (1) The CDFG is authorized to capture, transport, and release 7,500 juvenile SONCC coho salmon associated with fish rescue operations throughout the California portion of the SONCC coho salmon ESU; (2) the CDFG is authorized to capture, transport, and release 7,500 juvenile CCC coho salmon associated with fish rescue operations throughout the CCC coho salmon ESU. The CDFG may rescue juvenile SONCC coho salmon and/or CCC coho salmon found in habitat areas where conditions are likely to result in eminent mortality; the fish must be released into habitat areas within the same watershed where the chance of long-term survival is increased.

Dated: November 6, 2001.
Margaret Lorenz,
Acting Chief, Endangered Species Division, Office of Protected Resources, National Marine Fisheries Service.

[FR Doc. 01-28240 Filed 11-8-01; 8:45 am]

BILLING CODE 3510-22-S